DEPARTMENT OF HOMELAND SECURITY

Coast Guard

[Docket No. USCG-2015-0049]

Merchant Marine Personnel Advisory Committee

AGENCY: Coast Guard, DHS.

ACTION: Notice of Federal Advisory Committee Meeting.

SUMMARY: The Merchant Marine Personnel Advisory Committee will meet to discuss various issues related to the training and fitness of merchant marine personnel. This meeting will be open to the public.

DATES: The Merchant Marine Personnel Advisory Committee working groups are scheduled to meet on March 18, 2015, from 8 a.m. until 5 p.m., and the full Committee is scheduled to meet on March 19, 2015, from 8 a.m. until 5 p.m. Written comments for distribution to Committee members and for inclusion on the Merchant Marine Personnel Advisory Committee Web site must be submitted on or before March 11, 2015. Please note that this meeting may adjourn early if all business is finished. These meetings will be held as scheduled subject to the availability of funds. Anyone interested in attending this meeting may want to contact the Coast Guard before making their travel and hotel reservations. Please contact either Mr. Davis Breyer at davis.j.breyer@uscg.mil or Mr. Mark Gould at mark.c.gould@uscg.mil to confirm that the meeting will be held on these dates or if the meeting has been re-scheduled.

ADDRESSES: The Committee will meet in the St. Charles Ballroom B of the Astor Crowne Plaza Hotel, 739 Canal Street, New Orleans, LA 70130. For further information about the Astor Crowne Plaza Hotel, contact Ms. Angela Eckles at 504-962-0500 ext. 8004 or via email at aeckles@astorneworleans.com. The hotel Web site can also be viewed at www.astorneworleans.com.

For information on facilities or services for individuals with disabilities or to request special assistance, please contact Mr. Davis Breyer as indicated in the FOR FURTHER INFORMATION CONTACT paragraph below.

Hotel Reservations: A block of rooms has been reserved at a group rate from Tuesday, March 17 through Thursday, March 19, 2015 at the Astor Crowne Plaza Hotel for the Merchant Marine Personnel Advisory Committee meeting attendees. Availability is limited. To make a reservation please visit the following Web site: https://aws.passkey.com/event/12834866/owner/10756/home Select “attendee” from the dropdown menu.

If you plan on attending the Merchant Mariner Medical Advisory Committee meeting being held March 16-17, 2015 immediately before the Merchant Marine Personnel Advisory Committee meeting, a separate hotel reservation will need to be made under a different block. To make a reservation for the Merchant Mariner Medical Advisory Committee meeting please visit the following Web site: https://aws.passkey.com/event/12834543/owner/10756/landing. To secure the group rate, reservations under both committee blocks must be made no later March 13, 2015.

To facilitate public participation, we are inviting public comment on the issues to be considered by the Committee and working groups as listed in the “Agenda” section below. Written comments must be identified by Docket No. USCG-2015-0049 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow the instructions on the Web site.

Public oral comment periods will be held each day. Speakers are requested to limit their comments to 3 minutes. Please note that the public oral comment periods may end before the prescribed ending time following the last call for comments. Contact Mr. Davis Breyer as indicated below to register as a speaker.

This notice may be viewed in our online docket, USCG-2015-0049, at http://www.regulations.gov.

FOR FURTHER INFORMATION CONTACT: Mr. Davis Breyer, Alternate Designated Federal Officer of the Merchant Marine Personnel Advisory Committee, telephone 202-372-1445, or at davis.j.breyer@uscg.mil. If you have any questions on viewing or submitting material to the docket, call Cheryl Collins, Program Manager, Docket Operations, telephone 202-366-9826 or 1-800-647-5527.

SUPPLEMENTARY INFORMATION: Notice of this meeting is given under the Federal Advisory Committee Act (Public Law 92-463, 5 U.S.C., Appendix).

The Merchant Marine Personnel Advisory Committee was established under the Secretary's authority in section 871 of the Homeland Security Act of 2002, Title 6, United States Code, section 451, and chartered under the provisions of the Federal Advisory Committee Act. The Committee acts solely in an advisory capacity to the Secretary of the Department of Homeland Security through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation is available at https://homeport.uscg.mil by using these key strokes: Missions; Port and Waterways Safety; Advisory Committees; MERPAC; and then use the announcements key. Alternatively, you may contact Mr. Davis Breyer as noted in the FOR FURTHER INFORMATION CONTACT section above.

Agenda

Day 1

The agenda for the March 18, 2015, meeting is as follows:

(1) The full Committee will meet briefly to discuss the working groups' business/task statements, which are listed under paragraph 2(a)-(d) below.

(2) Working groups will address the following task statements which are available for viewing at http://homeport.uscg.mil/merpac:

(a) Task Statement 30, Utilizing Military Education, Training and Assessment for the International Convention on Standards of Training, Certification and Watchkeeping for Seafarers (STCW) and U.S. Coast Guard Certifications;

(b) Task Statement 58, Communication between External Stakeholders and the Mariner Credentialing Program, as it Relates to the National Maritime Center;

(c) Task Statement 84, Correction of Merchant Mariner Credentials issued with Clear Errors; and

(d) Task Statement 87, Review of Policy Documents Providing Guidance on the Implementation of the December 24, 2013 International Convention on Standards of Training, Certification and Watchkeeping and Changes to National Endorsements Rulemaking.

(3) Public comment period.

(4) Reports of working groups. At the end of the day, the working groups will report to the full Committee on what was accomplished in their meetings. The full Committee will not take action on these reports on this date. Any official action taken as a result of this working group meeting will be taken on day 2 of the meeting.

(5) Adjournment of meeting.

Day 2

The agenda for the March 19, 2015, full Committee meeting is as follows:

(1) Introduction;

(2) Remarks from Coast Guard Leadership;

(3) Designated Federal Officer announcements;

(4) Roll call of Committee members and determination of a quorum;

(5) Reports from the following working groups;

(a) Task Statement 30, Utilizing Military Education, Training and Assessment for the International Convention on Standards of Training, Certification and Watchkeeping for Seafarers (STCW) and U.S. Coast Guard Certifications;

(b) Task Statement 58, Communication between External Stakeholders and the Mariner Credentialing Program, as it Relates to the National Maritime Center;

(c) Task Statement 76, Review of Performance Measures (Assessment Criteria);

(d) Task Statement 77, Development of Performance Measures (Assessment Criteria);

(e) Task Statement 78, Consideration of the International Labour Organization's Maritime Labour Convention, 2006;

(f) Task Statement 80, Develop training guidelines for mariners employed aboard vessels subject to the IGF Code;

(g) Task Statement 81, Development of Competency Requirements for Vessel Personnel Working Within the Polar Regions;

(h) Task Statement 84, Correction of Merchant Mariner Credentials issued with Clear Errors; and

(i) Task Statement 87, Review of Policy Documents Providing Guidance on the Implementation of the December 24, 2013 International Convention on Standards of Training, Certification and Watchkeeping and Changes to National Endorsements Rulemaking.

(6) Other items for discussion:

(a) Report on the Implementation of the 2010 Amendments to the International Convention on Standards of Training, Certification and Watchkeeping;

(b) Report on National Maritime Center activities from the National Maritime Center Commanding Officer, such as the net processing time it takes for mariners to receive their credentials after application submittal;

(c) Report on Mariner Credentialing Program Policy Division activities, such as its current initiatives and projects;

(d) Report on International Maritime Organization (IMO)/International Labor Organization (ILO) issues related to the merchant marine industry; and

(e) Briefings about on-going Coast Guard projects related to personnel in the U.S. merchant marine, including a draft task statement concerning job descriptions for the various billets on merchant vessels.

(7) Public comment period.

(8) Discussion of working group recommendations. The Committee will review the information presented on each issue, deliberate on any recommendations presented by the working groups and approve/formulate recommendations for the Department's consideration. Official action on these recommendations may be taken on this date.

(9) Closing remarks/plans for next meeting.

(10) Adjournment of meeting.

A copy of all meeting documentation is available at http://homeport.uscg.mil/merpac.

Dated: March 3, 2015.
J.G. Lantz,
Director of Commercial Regulations and Standards.

[FR Doc. 2015-05368 Filed 3-5-15; 8:45 am]

BILLING CODE 9110-04-P